DEPARTMENT OF COMMERCE

National Telecommunications and Information Administration

[Docket No. 0911201414-0010-02]

Public Telecommunications Facilities Program: Notice of Availability of Funds

AGENCY: National Telecommunications and Information Administration, U.S. Department of Commerce.

ACTION: Notice of Availability of Funds; Catalog of Federal Domestic Assistance.

SUMMARY: On December 2, 2009, the National Telecommunications and Information Administration (NTIA) announced the closing date for receipt of applications for the Public Telecommunications Facilities Program (PTFP). NTIA now announces that $18 million has been appropriated for fiscal year (FY) 2010 grants.

DATES: Funds will be available for applications submitted by the originally announced deadline of 5 p.m., Eastern Standard Time (Closing Time), February 4, 2010, as well as applications for certain radio applications filed in response to the Federal Communications Commission (FCC) February 2010 FM Window that must be received prior to 5 p.m., Eastern Standard Time (Closing Time), February 26, 2010.

ADDRESSES: To obtain a printed application package, submit completed applications, or send any other correspondence, write to PTFP at the following address: NTIA/PTFP, Room H-4812, U.S. Department of Commerce, 1401 Constitution Avenue, NW, Washington, DC 20230. Application materials may be obtained electronically via the Internet at http://www.ntia.doc.gov/ptfp or http://www.grants.gov.

FOR FURTHER INFORMATION CONTACT: William Cooperman, Director, Public Broadcasting Division, telephone: (202) 482-5802; fax: (202) 482-2156. Information about the PTFP also can be obtained electronically via the Internet at www.ntia.doc.gov/ptfp.

SUPPLEMENTARY INFORMATION: On December 2, 2009, NTIA published a Notice of Closing Date for Solicitation of Applications for the FY 2010 PTFP grant round (the Notice). The Notice established Thursday, February 4, 2010, as the Closing Date for all applications except those applications that were related to the FCC FM Window. The Closing Date for the radio applications related to the FM Window¹ must be received by Friday, February 26, 2010. The Notice indicated that:

¹ Public Telecommunications Facilities Program: Closing Date, 74 FR 63120 (Dec. 2, 2009).

[i]ssuance of grants is subject to the availability of FY 2010 funds. At this time, the Congress has passed the Further Continuing Appropriations, 2010, to fund operations of the PTFP through December 18, 2009. Further notice will be made in the Federal Register about the final status of funding for this program at the appropriate time.

On December 16, 2009, the Consolidated Appropriations Act, 2010 (the Act) was signed into law.² The Act appropriated $18 million for public telecommunications facilities planning and construction grants. These funds are now available to fund applications submitted in response to the Federal Register notice referenced above.

² See Pub. L. 111-117, 123 Stat. 3034 (Dec. 16, 2009).

Dated: January 7,2010
Bernadette McGuire-Rivera,
Associate Administrator, Office of Telecommunications and Information Applications.

[FR Doc. 2010-453 Filed 1-12-10; 8:45 am]

BILLING CODE 3510-60-S